DEPARTMENT OF HEALTH AND HUMAN SERVICES

Centers for Disease Control and Prevention

[30 DAY-02-02]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-7090. Send written comments to CDC, Desk Officer, Human Resources and Housing Branch, New Executive Office Building, Room 10235, Washington, DC 20503. Written comments should be received within 30 days of this notice.

Proposed Project: Willingness to Pay Project—NEW—Epidemiology Program Office (EPO), Centers for Disease Control and Prevention (CDC). The mission of the Prevention Effectiveness Branch is to provide information and training to build internal and external capacity in economic and decision sciences.

This project will use qualitative and quantitative research to develop and test informational approaches (educational materials or product labeling) to educate consumers about food safety issues, develop and test survey instruments and test experimental protocols to be used in the main quantitative data collection; provide a nationally-representative estimate of consumer willingness to pay for (a) Publicly-provided reductions in the probability of contracting foodborne illnesses; (b) reductions in severity of symptoms associated with foodborne illnesses, and (c) materials that facilitate private, defensive precautions against foodborne illness during home food preparation (e.g., meat thermometers, antibacterial soaps and cutting boards). Estimate the effect of education programs and product labeling on willingness to pay for the reductions; compare the empirical estimates of the above mentioned consumer willingness to pay derived from a conjoint analysis instrument and a simulated marketplace experiment.

Public awareness and stated concern regarding foodborne illnesses have increased rapidly over the past decade. The general public, while seemingly well-informed and concerned about some relevant food safety issues, appear unknowledgeable or ill-informed about emerging issues. The Food Safety Survey data suggest that information provided to consumers at the point of purchase may be a fruitful means of educating the public about food safety, and analyses of consumer purchase data indicate that health-related information provided at the point of purchase can make significant long-term changes in purchasing behavior.

While providing health-related information about food has been the focus of major policy initiatives in the last few years, little empirical economic research has attempted to understand the market and welfare effects of different health information policies. In addition, previous research does not address the distribution of effects across different consumers. Policy makers and food manufacturers cannot provide labels that satisfy everyone's information desires while simultaneously catering to consumers' cognitive and time constraints. As a result, policy makers need to understand how different sectors of the consumer population will be affected, particularly those members of the population who face relatively high food safety risks.

The lack of information hinders policy makers from making informed decisions on the proper allocation of resources in this area since the benefits or reducing the risk of illness are not well known. Not having the information readily available makes cost-effectiveness and cost-benefit analyses difficult to do as well as resource-intensive. This data collection effort will reduce this burden by making data available to researchers for use in program and policy evaluation. If this data collection effort were not to take place, agencies will either have to continue to piece together data when conducting economic analyses of food safety policies and regulations, or they will fund a large-scale effort like the one being proposed. Another large-scale effort would be a waste of public funds. Providing consumers information about the risks and about protective measures allows consumers to more accurately assess how much they would pay for reductions in this risk, but more importantly, it also informs the consumer as to what the risks are and how they can protect themselves. This information is important since the consumer is the last line of defense in the campaign against foodborne illnesses. The total estimated burden is 1500 hours.

Respondents | Number of respondents | Number of responses per respondent | Average burden per response (in hours)
Survey respondents | 3300 | 1 | 20/60
Virtual shopping respondents | 600 | 1 | 40/60

Dated: December 5, 2001.
Nancy E. Cheal,
Acting Associate Director for Policy, Planning and Evaluation, Centers for Disease Control and Prevention.

[FR Doc. 01-30760 Filed 12-12-01; 8:45 am]

BILLING CODE 4163-18-P